DEPARTMENT OF TRANSPORTATION

National Highway Traffic Safety Administration

Petition to Modify an Exemption of a Previously Approved Antitheft Device; Porsche

AGENCY: National Highway Traffic Safety Administration, Department of Transportation (DOT).

ACTION: Grant of a petition to modify an exemption of a previously approved antitheft device.

SUMMARY: On May 25, 1989, the National Highway Traffic Safety Administration (NHTSA) granted in full Porsche Cars North America's (Porsche) petition for an exemption in accordance with § 543.9(c)(2) of 49 CFR part 543, Exemption from the Theft Prevention Standard for the Porsche 911 vehicle line beginning with model year (MY) 1990. On August 16, 2011, Porsche submitted a petition to modify its previously approved exemption for the Porsche 911 vehicle line and notified the agency that all new successor models within the 911 line will be installed with the proposed antitheft device beginning with MY 2012. NHTSA is granting Porsche's petition to modify the exemption in full, because it has determined that the modified device is also likely to be as effective in reducing and deterring motor vehicle theft as compliance with the parts-marking requirements of the Theft Prevention Standard.

DATES: The exemption granted by this notice is effective beginning with the 2012 MY.

FOR FURTHER INFORMATION CONTACT: Carlita Ballard, Office of International Policy, Fuel Economy and Consumer Standards, NHTSA, 1200 New Jersey Avenue SE., West Building, W43-439, Washington, DC 20590. Ms. Ballard's telephone number is (202) 366-5222. Her fax number is (202) 493-2990.

SUPPLEMENTARY INFORMATION: On June 2, 1989, NHTSA published in the Federal Register a notice granting in full a petition from Porsche for an exemption from the parts-marking requirements of the Theft Prevention Standard (49 CFR 541) for the 911 vehicle line beginning with its MY 1990 vehicles. The Porsche 911 is equipped with a passive antitheft device and an audible and visible alarm. (See 54 FR 23727)

On April 4, 1990, Porsche submitted its first letter requesting deminimis treatment of a modification to its existing 911 vehicle line beginning with its MY 1991 vehicles. Porsche's modification added an alarm control unit integrated with central locking and an interior light control unit. The modification to the device also included improved diagnostic capabilities to accept inputs such as motion sensors and an alarm control unit that monitored the glove box for unauthorized opening. By letter dated May 31, 1990, the agency determined the changes to the antitheft device installed on the 911 line as standard equipment were de minimis.

On September 10, 1992, the agency received a second request for de minimis treatment of a proposed modification to Porsche's existing antitheft device for only one model within the Porsche 911 vehicle line for MY 1994. By letter dated December 4, 1992, the agency notified Porsche that its de minimis request was denied. The agency stated that the proposed change to the device was significant and warranted a petition for modification. Consequently, because of the denial of its request, Porsche met the parts-marking requirements of theft prevention standard for the entire 911 vehicle line for its MY 1994 vehicles.

Porsche subsequently informed the agency that beginning with its MY 1995 vehicles, it would no longer produce the 911 vehicle line with a feature exclusive to only one model within the line, and that for MY 1995, it would install the antitheft device as standard equipment under the agency's previous grant of exemption for its MY 1991 911 vehicle line.

On August 16, 2011, Porsche submitted its third petition to modify a previously approved exemption for the 911 vehicle line incorporating new successor models into the existing vehicle line. This notice grants in full Porsche's petition to modify the exemption for the 911 vehicle line. Porsche's submission is a complete petition, as required by 49 CFR 543.9(d), in that it meets the general requirements contained in 49 CFR 543.5 and the specific content requirements of 49 CFR 543.6. Porsche's petition provides a detailed description and diagram of the identity, design and location of the components of the antitheft device proposed for installation beginning with the 2012 MY.

Porsche will install its passive, transponder-based electronic engine immobilizer antitheft device as standard equipment on its Porsche 911 vehicle line. Key components of the modified antitheft device will include an electronic ignition switch, a central-locking control unit, an alarm indicator, a remote control unit, a transponder, an engine control unit and an electronic ignition switch. Porsche stated that the antitheft device consists of two major subsystems; a microprocessor based immobilizer device which prevents the engine management system from functioning when the device is engaged, and a central-locking and alarm system.

Porsche stated that the immobilizer device is automatically activated when removing the key from the ignition switch assembly. The key contains a radio signal transponder which signals the control unit to allow the engine to be started. Porsche stated that as an option, a keyless entry device can be provided for the 911 vehicle line. Porsche stated that the antitheft device will remain the same, but the ignition key is substituted with a special key that contains a radio signal transmitter similar to that in the standard ignition key. The immobilizer system is automatically activated after the engine is turned off with the optional keyless entry device. Porsche stated that only by inserting the correct key into the ignition switch or by having the special keyless entry device within the compartment of the car, will the correct signal be sent to the control unit allowing start and operation of the engine. When the key is removed from the ignition or the keyless entry key is removed from the vehicle, the device will return to its normal “OFF” state disallowing engine start and operation.

In order to ensure the reliability and durability of the device, Porsche conducted tests based on its own specified standards. Porsche provided a detailed list of tests conducted and believes that its device is reliable and durable since the device complied with its specified requirements for each test. The test conducted included extreme temperature tests, voltage spike tests, reverse polarity tests, electromagnetic interference tests, vibration tests and endurance tests. Porsche stated that its antitheft device also features a built-in self-diagnostic that constantly checks for system failures. If a failure is detected, the operator receives a signal via the alarm indicator.

In Porsche's petition to modify its exemption, it stated that for MY 2012, the 911 vehicle line will be modified to accommodate the introduction of the antitheft device and strategies provided for the previously exempted MY 2010 Panamera vehicle line (see 75 FR 22174). Specifically, Porsche stated that the MY 2012 device will include all of the antitheft features of the MY 2010 Panamera including an electronically activated parking brake. Porsche stated that if the control unit does not receive the correct signal from the key or keyless entry system, the parking brake will remain activated and the vehicle cannot be towed away. Porsche also stated that an alarm system will monitor the opening of the doors, rear luggage compartment, and front deck lid while monitoring interior movement through an ultrasonic sensor. If any violation of these areas is detected, the horn will sound and the lights will flash. Porsche also stated that disconnection of power to the antitheft device and/or engine management device does not affect the operation of either device. Therefore, an unauthorized person cannot operate the car unless they obtain the key or optional keyless entry device for the vehicle.

Porsche stated that another additional theft prevention feature to the 911 vehicle line is the implementation of a new off-board antitheft strategy which involves making it impossible to use stolen electronic control units to repair other Porsche vehicles. Porsche stated that the goal of the off-board theft protection strategy is to reduce the marketability of stolen electronic components. Specifically, Porsche explained that during the production process of the vehicle, initialization and registration of various antitheft related electronic components are recorded in a central database. Changes to these components are only possible with authorized on-line access to the central database. Porsche stated that if the components have to be replaced or repaired while authorized access to the central database is unavailable or the components are unauthorized, further operation and use of the vehicle is restricted or even impossible.

In its MY 2012 modification, Porsche stated that it believes its new 911 antitheft device will prove to be even more effective in reducing and deterring theft than its antitheft devices have proven in the past. Porsche also compared its device with other devices without alarms that NHTSA has determined to be as effective in reducing and deterring motor vehicle theft as would compliance with the parts-marking requirements. Porsche stated that similar systems without alarms, (i.e., GM PASS-Key, Mercedes Benz 202 vehicle line, Porsche Boxster (Cayman) as well as earlier 911 vehicle line devices were determined to be as effective as parts-marking. Porsche also referenced the agency's theft rate data for the 911 vehicle line which indicates that its theft rates (2002-2009) are still below the median theft rate of 3.5826. The theft rate for the 911 vehicle line using the most current 3 MY's theft rate data is 0.6339.

The agency has evaluated Porsche's MY 2012 petition to modify the exemption for the 911 vehicle line from the parts-marking requirements of 49 CFR Part 541, and has decided to grant it. The agency believes that the proposed device will continue to provide the five types of performance listed in § 543.6(a)(3): Promoting activation; attracting attention to the efforts of unauthorized persons to enter or operate a vehicle by means other than a key; preventing defeat or circumvention of the device by unauthorized persons; preventing operation of the vehicle by unauthorized entrants; and ensuring the reliability and durability of the device.

If Porsche decides not to use the exemption for this line, it should formally notify the agency. If such a decision is made, the line must be fully marked according to the requirements under 49 CFR 541.5 and 541.6 (marking of major component parts and replacement parts).

NHTSA suggests that if the manufacturer contemplates making any changes, the effects of which might be characterized as de minimis, it should consult the agency before preparing and submitting a petition to modify.

Authority: 49 U.S.C. 33106; delegation of authority at 49 CFR 1.50.

Issued on: October 28, 2011.
Christopher J. Bonanti,
Associate Administrator for Rulemaking.

[FR Doc. 2011-28936 Filed 11-7-11; 8:45 am]

BILLING CODE 4910-59-P